DEPARTMENT OF COMMERCE

National Oceanic and Atmospheric Administration

Agency Information Collection Activities; Submission to the Office of Management and Budget (OMB) for Review and Approval; Comment Request; Alaska Region Bering Sea and Aleutian Islands Crab Economic Data Reports

AGENCY: National Oceanic and Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: Written comments must be submitted on or September 12, 2025.

ADDRESSES: Interested persons are invited to submit written comments to Adrienne Thomas, NOAA PRA Officer, at NOAA.PRA@noaa.gov. Please reference OMB Control Number 0648-0518 in the subject line of your comments. All comments received are part of the public record and will generally be posted on https://www.regulations.gov without change. Do not submit Confidential Business Information or otherwise sensitive or protected information.

FOR FURTHER INFORMATION CONTACT: Requests for additional information or specific questions related to collection activities should be directed to Scott A. Miller, Economist, Sustainable Fisheries Division, P.O. Box 21668, Juneau, AK 99802-1668, 907-586-7228, scott.miller@noaa.gov.

SUPPLEMENTARY INFORMATION:

I. Abstract

The National Marine Fisheries Service (NMFS), Alaska Regional Office, is requesting renewal of the currently approved information collection for the Economic Data Reporting for the Bering Sea and Aleutian Island Crab Rationalization Program (CR Program). The CR Program is a limited access privilege program managed under the authority of the Magnuson-Stevens Fishery Conservation and Management Act (Magnuson-Stevens Act), the Consolidated Appropriations Act of 2004 (Pub. L. 108-199, Sec. 801), and the Fishery Management Plan for Bering Sea/Aleutian Islands King and Tanner Crab (FMP). The CR Program allocates crab among harvesters, processors, Western Alaska Community Development Quota groups, and coastal communities for nine crab fisheries. The CR Program also includes a comprehensive economic data collection program requiring participants to complete annual Economic Data Reports (EDRs). These EDRs are intended to aid the North Pacific Fishery Management Council (Council) and NOAA's National Marine Fisheries Service (NMFS) to assess the performance of the CR Program and to develop amendments to the FMP or regulations to mitigate any unintended consequences of the CR Program.

NMFS has designated Pacific States Marine Fisheries Commission (PSMFC) as the Data Collection Agent for the CR Program. NMFS and PSMFC administer the crab EDR program under the guidance of the Council. The crab EDR program collects annually reported cost, revenue, ownership, and employment data from harvest and processing sector participants in the CR Program fisheries. This information is necessary to monitor and assess the economic effects of the CR Program and support rigorous economic analysis to promote the goals and objectives of the Magnuson-Stevens Act and the FMP. Participation in the crab EDR program is mandatory under Federal fisheries regulations at 50 CFR 680.6 for all active vessel and processing sector participants in the CR Program fisheries.

This information collection contains the three EDRs used by participants in the CR Program: (1) Catcher Vessel Crab EDR, (2) Catcher/Processor Crab EDR, and (3) Processor Crab EDR. An EDR is required from any owner or leaseholder of a vessel or processing plant, or a holder of a registered crab receiver permit that harvested, processed, custom processed, or obtained custom processing for CR Program crab in specified Bering Sea and Aleutian Islands crab fisheries during the prior calendar year. The EDRs are submitted annually and are due on or before July 31 of the following year. Additional information on the crab EDR program is available on the PSFMC website at http://www.psmfc.org/alaska_crab/.

II. Method of Collection

The EDRs may be submitted online, by mail, or by fax. PSMFC mails EDR announcements and filing instructions to respondents by the end of May each year. Respondents are encouraged to complete the forms online on the PSMFC website at http://www.psmfc.org/alaska_crab/. EDR forms also are available on the PSFMC website as a fillable PDF; these may be downloaded, printed, and mailed or faxed to PSMFC.

III. Data

OMB Control Number: 0648-0518.

Form Number(s): None.

Type of Review: Regular submission (extension of a current information collection).

Affected Public: Business or other for-profit organizations; Not-for-profit organizations.

Estimated Number of Respondents: 77.

Estimated Time per Response: 20 hours each for full Catcher Vessel Crab EDR and full Catcher/Processor Crab EDR; 16 hours for full Processor Crab EDR; 2 hours each for certification-only Catcher Vessel Crab EDR, certification-only Catcher/Processor Crab EDR, and certification-only Processor Crab EDR.

Estimated Total Annual Burden Hours: 1,449 hours.

Estimated Total Annual Cost to Public: $385 in recordkeeping and reporting costs.

Respondent's Obligation: Mandatory.

Legal Authority: The Consolidated Appropriations Act of 2004 (Pub. L. 108-199, Sec. 801) and the Magnuson-Stevens Fishery Conservation and Management Act (16 U.S.C. 1801 et seq.).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this Information Collection. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-13165 Filed 7-11-25; 8:45 am]

BILLING CODE 3510-22-P